DEPARTMENT OF DEFENSE

Office of the Secretary

[Transmittal No. 22-54]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 22-54, Policy Justification, and Sensitivity of Technology.

Dated: December 20, 2024.
Stephanie J. Bost,
Alternate OSD Federal Register Liaison Officer, Department of Defense.

Transmittal No. 22-54

Notice of Proposed Issuance of Letter of Offer Pursuant to Section 36(b)(1) of the Arms Export Control Act, as Amended

(i) Prospective Purchaser: Government of Egypt

(ii) Total Estimated Value:

Major Defense Equipment * | $0 million
Other | $200 million
TOTAL | $200 million

Funding Source: Foreign Military Financing (FMF)

(iii) Description and Quantity or Quantities of Articles or Services under Consideration for Purchase: Foreign Military Sales case EG-B-VIT was below congressional notification threshold at $41.9 million for non-Major Defense Equipment (MDE) light tactical vehicle chassis and fleet build. The Government of Egypt requested that the case be amended to include additional chassis and non-MDE items and services. This case amendment will increase the total case value above the non-MDE notification threshold, and thus notification of the entire case is required.

Major Defense Equipment:

None

Non-MDE:

Included are 4-Man REV1-B Rolling Chassis with 190 horsepower (HP) diesel engines upgraded to 205HP Turbo-charged engines; training for chassis assembly process, operations, and maintenance; spare and repair parts; testing equipment; U.S. Government and contractor engineering, technical and logistics support services; and other related elements of logistical and program support.

(iv) Military Department: Army (EG-B-VIT)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: January 10, 2024

* As defined in Section 47(6) of the Arms Export Control Act.

POLICY JUSTIFICATION

Egypt—Light Tactical Vehicle Chassis and Fleet Build

The Government of Egypt has requested to buy additional light tactical vehicle chassis and fleet build that will be added to a previously implemented case. The original Foreign Military Sales case, valued at $41.9 million, included 4-Man REV1-B Rolling Chassis with 190 horsepower (HP) diesel engines upgraded to 205HP turbo-charged engines; training for chassis assembly process, operations, and maintenance; spare and repair parts; testing equipment; United States (U.S.) Government and contractor engineering, technical, and logistics support services; and other related elements of logistical and program support. The estimated total cost is $200 million.

This proposed sale will support U.S. foreign policy and national security objectives by helping to improve the security of a Major Non-NATO Ally that continues to be an important force for political stability and economic growth in the Middle East.

The proposed sale will contribute to the modernization of Egypt's Light Tactical Vehicle fleet, enhancing its ability to meet current and future threats. These chassis will contribute to Egypt's goal of updating its military capability while further enhancing interoperability with the U.S. and other allies. Egypt will have no difficulty absorbing this equipment and services into its armed forces.

The proposed sale of this equipment and support will not alter the basic military balance in the region.

The principal contractor will be AM General, LLC, of Mishawaka, IN. There are no known offset agreements proposed in connection with this potential sale.

Implementation of this proposed sale will require the assignment of up to five (5) additional U.S. Government and three (3) contractor representatives to Egypt for a duration of five (5) years to support fielding and training for the program.

There will be no adverse impact on U.S. defense readiness as a result of this proposed sale.

Transmittal No. 22-54

Notice of Proposed Issuance of Letter of Offer Pursuant to Section 36(b)(1) of the Arms Export Control Act

Annex

Item No. vii

(vii) Sensitivity of Technology:

1. The High Mobility Multipurpose Wheeled Vehicle 13-Series 4-Man REV1-B Rolling Chassis will support the assembly production of the Egyptian vehicle (TEMSAH 3) to increase the capabilities of the Light Tactical Vehicle fleet.

2. The highest level of classification of defense articles, components, and services included in this potential sale is UNCLASSIFIED.

3. If a technologically advanced adversary were to obtain knowledge of the specific hardware and software elements, the information could be used to develop countermeasures that might reduce weapon system effectiveness or be used in the development of a system with similar or advanced capabilities.

4. A determination has been made that the Government of Egypt can provide substantially the same degree of protection for the sensitive technology being released as the U.S. Government. This sale is necessary in furtherance of the U.S. foreign policy and national security objectives outlined in the Policy Justification.

5. All defense articles and services listed in this transmittal have been authorized for release and export to the Government of Egypt.

[FR Doc. 2024-31135 Filed 12-30-24; 8:45 am]

BILLING CODE 6001-FR-P